DEPARTMENT OF THE INTERIOR

National Park Service

Notice of Inventory Completion: U.S. Department of Homeland Security, U.S. Coast Guard Headquarters, Washington, DC, and University of Hawai`i at Hilo, Hilo, HI

AGENCY: National Park Service, Interior.

ACTION: Notice.

Notice is here given in accordance with the Native American Graves Protection and Repatriation Act (NAGPRA), 25 U.S.C. 3003, of the completion of an inventory of human remains in the control of the U.S. Department of Homeland Security, U.S. Coast Guard Headquarters, Washington, DC, and in the possession of the University of Hawai`i at Hilo, Hilo, HI. The human remains were removed from the South Point Gas House Site (Site H6), Ka`u district, Hawai`i Island, Hawai`i County, HI.

This notice is published as part of the National Park Service's administrative responsibilities under NAGPRA, 25 U.S.C. 3003 (d)(3). The determinations in this notice are the sole responsibility of the museum, institution, or Federal agency that has control of the Native Hawaiian human remains. The National Park Service is not responsible for the determinations in this notice.

A detailed assessment of the human remains was made by the U.S. Coast Guard and professional staff from the University of Hawai`i at Hilo in consultation with representatives of Hui Malama I Na Kupuna O Hawai`i Nei, Ka`u Preservation, and Office of Hawaiian Affairs.

At an unknown time between 1954 and 1959, human remains representing a minimum of one individual was removed from the South Point Gas House Site, Kama'oa Pu`u`eo ahupua`a, Ka`u District, Hawai`i Island, in Hawai`i County, HI. The site was encountered while the U.S. Coast Guard was constructing a fuel drum storage shed and the human remains were delivered to the University of Hawai`i at Hilo. No known individual was identified. No associated funerary objects are present.

The site was listed in Bishop Museum files as “H6” or “11-Ha-B20-9,” as part of their general site information, and was described by Bishop Museum archeologists as a buried midden site, but the individual is not listed in any report from the area. The midden deposits in the South Point region were intensively studied by several archeologists in the 1950s, including Dr. William Bonk at the University of Hawai`i at Hilo, and were largely determined to represent pre-contact Native Hawaiian occupations and burials. The South Point Gas House Site is a specific portion of the larger site complex that includes the Pu`u Ali`i Sand Dune site (H1), which is an early Native Hawaiian fishing village and burial area dating to pre-European contact.

Officials of the Department of Homeland Security, United States Coast Guard have determined that, pursuant to 25 U.S.C. 3001 (9-10), the human remains described above represent the physical remains of one individual of Native Hawaiian ancestry. Officials of the Department of Homeland Security, United States Coast Guard also have determined that, pursuant to 25 U.S.C. 3001 (2), there is a relationship of shared group identity that can be reasonably traced between the Native Hawaiian human remains and Hui Malama I Na Kupuna O Hawai`i Nei, Ka`u Preservation, and Office of Hawaiian Affairs.

Representatives of any other Native Hawaiian Organization or Indian tribe that believes itself to be culturally affiliated with the human remain should contact Dr. Daniel Koski-Karell, Environmental Management Office, U.S. Coast Guard Headquarters (COMDT CG-443), Room 09-1007, 1900 Half St. NW, Washington, DC 20593-0004, telephone (202) 475-5683, before August 13, 2008. Repatriation of the human remains to Hui Malama I Na Kupuna O Hawai`i Nei, Ka`u Preservation, and Office of Hawaiian Affairs may proceed after that date if no additional claimants come forward.

Department of Homeland Security, United States Coast Guard is responsible for notifying Hui Malama I Na Kupuna O Hawai`i Nei, Ka`u Preservation, and Office of Hawaiian Affairs that this notice has been published.

Dated: June 19, 2008
Sherry Hutt,
Manager, National NAGPRA Program.

[FR Doc. E8-15899 Filed 7-11-08; 8:45 am]

BILLING CODE 4312-50-S